NATIONAL AERONAUTICS AND SPACE ADMINISTRATION

[Notice: 24-027]

Name of Information Collection: NASA New Technology Reporting System

AGENCY: National Aeronautics and Space Administration (NASA).

ACTION: Notice of information collection; renewal of existing approved collection.

SUMMARY: NASA, as part of its continuing effort to reduce paperwork and respondent burden, invites the general public and other Federal agencies to take this opportunity to comment on proposed and/or continuing information collections, as required by the Paperwork Reduction Act of 1995 (PRA).

DATES: Comments are due by May 3, 2024.

ADDRESSES: Written comments and recommendations for this information collection should be sent within 30 days of publication of this notice. You may send comments, identified by NASA Notice Number 24-027, to the Federal e-Rulemaking Portal: https://www.regulations.gov. Follow the instructions for sending comments.

FOR FURTHER INFORMATION CONTACT: Requests for additional information or copies of the information collection instrument(s) and instructions should be directed to NASA PRA Clearance Officer, Bill Edwards-Bodmer, NASA Headquarters, 300 E Street SW, JF0000, Washington, DC 20546, phone 757-864-7998, or email hq-ocio-pra-program@mail.nasa.gov.

SUPPLEMENTARY INFORMATION:

I. Abstract

Personnel performing research and development are required by statutes, NASA implementing regulations, and OMB policy to submit reports of inventions, patents, data, and copyrights, including the utilization and disposition of same. The NASA New Technology Summary Report reporting form is being used for this purpose. This information is required to ensure the proper disposition of rights to inventions made in the course of NASA-funded research contracts. The requirement is codified in 48 CFR part 1827. The legislative authorities are 42 U.S.C. 2457 et seq., and 35 U.S.C. 200 et seq.

II. Methods of Collection

NASA FAR Supplement clauses for patent rights and new technology encourage personnel to use an electronic form and provide a hyperlink to the electronic New Technology Reporting System (e-NTR) site: http://invention.nasa.gov. This website has been set up to help NASA employees and parties under NASA funding agreements (i.e., contracts, grants, cooperative agreements, and subcontracts) to report new technology information directly to NASA via a secure internet connection.

III. Data

Title: NASA New Technology Reporting System.

OMB Number: 2700-0052.

Type of Review: Extension of a currently approved collection.

Affected Public: Businesses, colleges and university, and/or other for-profit institutions.

Estimated Annual Number of Activities: 3,372.

Estimated Number of Respondents per Activity: 1.

Annual Responses: 3,372.

Estimated Time per Response: 3 hours.

Estimated Total Annual Burden Hours: 10,116.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
PRA Clearance Officer, National Aeronautics and Space Administration.

[FR Doc. 2024-07059 Filed 4-2-24; 8:45 am]

BILLING CODE 7510-13-P